FEDERAL ELECTION COMMISSION

Sunshine Act Notices

AGENCY: Federal Election Commission.

Date and Time: Tuesday, September 30, 2003 at 10 a.m.

Place: 999 E Street, NW., Washington, DC.

Status: This meeting will be closed to the public.

Items To Be Discussed: Compliance matters pursuant to 2 U.S.C. 437g. Audits conducted pursuant to 2 U.S.C. 437g, 438(b), and Title 26, U.S.C. Matters concerning participation in civil actions or proceedings or arbitration. Internal personnel rules and procedures or matters affecting a particular employee.

Date and Time: Wednesday, October 1, 2003, at 9:30 a.m.

Place: 999 E Street, NW., Washington, DC (ninth floor).

Status: This hearing will be open to the public.

Matters Before the Commission: Notices of Proposed Rulemakings on Party Committee Telephone Banks; Political Committee Mailing Lists; Candidate Travel; and Multicandidate Political Committees and Biennial Contribution Limits.

For Further Information Contact: Mr. Ron Harris, Press Officer, Telephone: (202) 694-1220.

Mary W. Dove,
Secretary of the Commission.

[FR Doc. 03-24336 Filed 9-23-03; 10:43 am]

BILLING CODE 6715-01-M